DEPARTMENT OF DEFENSE

Department of the Air Force

Privacy Act of 1974; System of Records

AGENCY: Department of the Air Force, DoD.

ACTION: Notice to Amend Systems of Records.

SUMMARY: The Department of the Air Force is amending five systems of records notices in its existing inventory of record systems subject to the Privacy Act of 1974, (5 U.S.C. 552a), as amended.

DATES: This proposed action will be effective without further notice on June 9, 2003 unless comments are received which result in a contrary determination.

ADDRESSES: Send comments to the Air Force Privacy Act Manager, Office of the Chief Information Officer, AF-CIO/P, 1155 Air Force Pentagon, Washington, DC 20330-1155.

FOR FURTHER INFORMATION CONTACT: Mrs. Anne Rollins at (703) 601-4043.

SUPPLEMENTARY INFORMATION: The Department of the Air Force systems of records notices subject to the Privacy Act of 1974, (5 U.S.C. 552a), as amended, have been published in the Federal Register and are available from the address above.

The specific changes to the records systems being amended are set forth below followed by the notices, as amended, published in their entirety. The proposed amendments are not within the purview of subsection (r) of the Privacy Act of 1974, (5 U.S.C. 552a), as amended, which requires the submission of a new or altered system report.

Dated: April 30, 2003.
Patricia L. Toppings,
Alternate OSD Federal Register Liaison Officer, Department of Defense.

F033 AF CIC A

System name:

Automated Orders Data System (June 11, 1997, 62 FR 31793).

Changes:

System identifier:

Replace entry with ‘F033 AF D’.

* * * * *

Categories of individuals covered by the system:

Delete ‘who perform annual, school, special, and Military Personnel Appropriation (MPA) tours’ and add ‘and other individuals that travel on Air Force travel orders’.

Categories of records in the system:

Replace entry with ‘Records relating to official travel of individuals, including travel orders, per diem vouchers, transportation requests, travel itinerary, and supporting documentation. Records contain individual’s name, Social Security Number, rank/grade, office name, telephone, and related information.’

* * * * *

Purpose(s):

Replace entry with ‘To maintain an official travel record authorization and payment file system. Provides management information for control of travel expenditures and supports documentation requirements for official travel.’

* * * * *

F033 AF D

System name:

Automated Orders Data System.

System location:

Any location where temporary orders are published at all levels down to and including squadrons. Official mailing addresses are published as an appendix to the Air Force compilation of systems of records notices.

Categories of individuals covered by the system:

All Air Force civilian employees and military members who perform temporary duty travel, including all Air Force reserve personnel and other individuals that travel on Air Force travel orders.

Categories of records in the system:

Records relating to official travel of individuals, including travel orders, per diem vouchers, transportation requests, travel itinerary, and supporting documentation. Records contain individual’s name, Social Security Number, rank/grade, office name, telephone, and related information.

Authority for maintenance of the system:

10 U.S.C. 8013, Secretary of the Air Force; Joint Federal Travel Regulation; Air Force Instruction 33-328, Administrative Orders; Air Force Instruction 65-103, Temporary Duty Orders; and E.O. 9397 (SSN).

Purpose(s):

To maintain an official travel record authorization and payment file system. Provides management information for control of travel expenditures and supports documentation requirements for official travel.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ published at the beginning of the Air Force's compilation of systems of records notices apply to this system.

Policies and practices for storing, retrieving, accessing, retaining, and disposing of records in the system:

Storage:

Maintained on computer.

Retrievability:

Retrieved by name and Social Security Number.

Safeguards:

Records are accessed by person(s) responsible for servicing the record system in performance of their official duties and are properly screened for need-to-know. Passwords are established for computer system entrance.

Retention and disposal:

Identification data is maintained until the individual is reassigned. Orders are maintained for 1 to 56 years after the year in which they are published.

System manager(s) and address:

Records Custodians at the installation, base, unit, organization, office or function to which the individual is assigned, attached, tenanted on, or on temporary duty. Official mailing addresses are published as an appendix to the Air Force's compilation of systems of records notices.

Notification procedure:

Individuals seeking to determine whether this system of records contains information on themselves should address inquiries to the Records Custodian at the installation, base, unit, organization, office or function to which the individual is assigned, attached, tenanted on, or on temporary duty. Official mailing addresses are published as an appendix to the Air Force's compilation of systems of records notices.

Individual should provide full name, Social Security Number, and office or organization.

Record access procedures:

Individuals seeking access to records about themselves contained in this system should address requests to the Records Custodian at the installation, base, unit, organization, office or function to which the individual is assigned, attached, tenanted on, or on temporary duty. Official mailing addresses are published as an appendix to the Air Force's compilation of systems of records notices.

Individual should provide full name, Social Security Number, and office or organization.

Contesting record procedures:

The Air Force rules for accessing records, and for contesting contents and appealing initial agency determinations are published in Air Force Instruction 37-132; 32 CFR part 806b; or may be obtained from the system manager.

Record source categories:

Information is obtained from personnel records, automated system interfaces, individuals, and orders requests.

Exemptions claimed for the system:

None.

F033 AF CIC D

System name:

Locator, Registration and Postal Directory Files (June 11, 1997, 62 FR 31793).

Changes:

System identifier:

Change to read ‘F033 AF C’.

* * * * *

Categories of individuals:

Replace ‘unified and specified’ with ‘combatant’.

Categories of records in the system:

Delete “military service identification number”

* * * * *

F033 AF C

System name:

Locator, Registration and Postal Directory Files.

System location:

Headquarters, United States Air Force; Air Force installations to include bases; units; offices and functions, and headquarters of combatant commands for which Air Force is Executive Agent. Official mailing addresses are published as an appendix to the Air Force's compilation of systems of records notices.

Categories of individuals covered by the system:

Air Force military and civilian personnel; Air Force Reserve and National Guard personnel; volunteer personnel; United States Armed Forces military and civilian personnel assigned to headquarters of combatant commands for which Air Force is Executive Agent, and contractor personnel. Dependents may also be included in this system.

Categories of records in the system:

Cards or listings may contain the individuals name, grade, Social Security Number, duty location, office telephone number, residence address and residence telephone number, and similar type personnel data determined to be necessary by local authority.

Authority for maintenance of the system:

10 U.S.C. 8013, Secretary of the Air Force and E.O. 9397 (SSN).

Purpose(s):

Used to locate or identify personnel assigned/attached to, tenanted on, or on temporary duty at the specific installation, office, base, unit, function, and/or organization in response to specific inquiries from authorized users for the conduct of business. Portions of the system are used for directory service and forwarding individual personal mail received by Air Force postal activities, and for assignment of individual mailboxes. Files may be used locally to support official and unofficial programs that require minimal locator information, membership or user listings.

Routine uses of records maintained in the system, including categories of users and the purposes of such uses:

In addition to those disclosures generally permitted under 5 U.S.C. 552a(b) of the Privacy Act, these records, or information contained therein, may specifically be disclosed outside the DOD as a routine use pursuant to 5 U.S.C. 552a(b)(3) as follows:

The DoD ‘Blanket Routine Uses’ published at the beginning of the Air Force's compilation of systems of records notices apply to this system.

Policies and practices for storing, retrieving, accessing, retaining, and disposing of records in the system:

Storage:

Maintained on paper records in card or form media in visible file binders/cabinets or card files, in computers and on computer output products.

Retrievability:

Retrieved by name and/or Social Security Number.

Safeguards:

Records are accessed by person(s) responsible for servicing the record system in performance of their official duties and by authorized personnel who are properly screened and cleared for need-to-know. Records are stored in locked rooms and cabinets. Those in computer storage devices are protected by computer system software.

Retention and disposal:

Retained in office files until reassignment or separation, or when superseded or no longer needed for reference. Postal directory files are destroyed for one year after permanently assigned personnel depart, or three months after transient personnel depart. Records are destroyed by tearing into pieces, shredding, pulping, macerating or burning. Computer records are destroyed by erasing, deleting or overwriting.

System manager(s) and address:

Records Custodians at the installation, base, unit, organization, office or function to which the individual is assigned, attached, tenanted on, performing volunteer service at, or on temporary duty. Official mailing addresses are published as an appendix to the Air Force's compilation of systems of records notices.

Notification procedure:

Individuals seeking to determine whether this system of records contains information about themselves should address inquiries to or visit the local system manager. Official mailing addresses are published as an appendix to the Air Force's compilation of systems of records notices.

Record access procedures:

Individuals seeking access to records about themselves contained in this system should address written requests to the local system manager. Official mailing addresses are published as an appendix to the Air Force's compilation of systems of records notices.

Contesting record procedures:

The Air Force rules for accessing records, and for contesting contents and appealing initial agency determinations are published in Air Force Instruction 37-132; 32 CFR part 806b; or may be obtained from the system manager.

Record source categories:

Information obtained from automated system interfaces; the individuals, or from personnel records.

Exemptions claimed for the system:

None.

F036 AETC B

System name:

Air Force Junior ROTC (AFJROTC) Applicant/Instructor System (June 11, 1997, 62 FR 31793).

Changes:

* * * * *

Categories of records in the system:

Delete from entry ‘ROTC Form 0-217, Change in’; ‘ROTC Form 0-214, AFJROTC Instructor Contract Card, AFROTC’; ‘or 0-218’. Replace ‘comments on AFROTC’ with ‘comments on Officer Accession and Training School (AFOATS)’. Replace ‘or 0-218 and’ with ‘and Departure/Transfer Questionnaire’.

* * * * *

F036 AETC B

System name:

Air Force Junior ROTC (AFJROTC) Applicant/Instructor System.

System location:

Air Force Junior Reserve Officer Training Corps, 551 East Maxwell Boulevard, Maxwell Air Force Base, AL 36112-6110.

Categories of individuals covered by the system:

Air Force Junior Reserve Officer Training Corps (AFJROTC) instructor applicants and instructors.

Categories of records in the system:

Application for AFJROTC instructor duty, processing checklist, applicant evaluation forms, interview record, last 10 Airman Performance Reports or Officer Effectiveness Reports or summary of last 10 reports which includes period of supervision and overall evaluation, letter requesting Defense Central Index of Investigation (DCII) name check, photograph, Report of Separation from Active Duty, Retirement Order (if applicable), Commander's recommendation (for noncommissioned officers on active duty only), miscellaneous correspondence such as resume and letter of recommendation, copy of AF retirement physical and Physical Evaluation Board Findings if applicant is retired with 30 percent or more disability awarded by VA, letter requesting medical evaluation of AFJROTC instructor applicants for personnel retired with 30 percent or more disability, letter verifying dependents, instructor preference card, instructor intent letter, contract data cards, termination letters, certification certificates, AFJROTC Instructor Status, Air Force Junior ROTC Instructor Evaluation Report, letters pertaining to appeals of ratings and/or comments on Officer Accession and Training School (AFOATS) Form 98; and Departure/Transfer Questionnaire.

Authority for maintenance of the system:

10 U.S.C. 102, Junior Reserve Officers' Training Corps; Air Force Instruction 36-2010, Air Force Junior Reserve Officers' Training Corps; and E.O. 9397 (SSN).

Purpose(s):

Used to evaluate applicant qualifications for employment as AFJROTC instructors. Also used to determine if instructor is meeting Air Force standards.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ published at the beginning of the Air Force's compilation of systems of records notices apply to this system.

Policies and practices for storing, retrieving, accessing, retaining, and disposing of records in the system:

Storage:

Maintained in file folders, and on computer magnetic tape and computer printouts.

Retrievability:

Retrieved by name and Social Security Number.

Safeguards:

Records are accessed by person(s) responsible for servicing the record system in performance of their official duties. Records are stored in locked cabinets or rooms. Those in computer storage devices are protected by computer system software.

Retention and disposal:

Retained in office files until superseded, obsolete, no longer needed for reference, or on inactivation, then destroyed by tearing into pieces, shredding, pulping, macerating, or burning. Computer records are destroyed by erasing, deleting and overwriting.

System manager(s) and address:

Commander, Air Force Junior Reserve Officer Training Corps, 551 East Maxwell Boulevard, Maxwell Air Force Base, AL 36112-6110.

Notification procedure:

Individuals seeking to determine whether this system of records contains information on them should address inquiries to the Commander, Air Force Junior Reserve Officer Training Corps, 551 East Maxwell Boulevard, Maxwell Air Force Base, AL 36112-6110.

Individuals who write must furnish name, grade, Social Security Number, unit of assignment and address.

Record access procedures:

Individuals seeking to access records about themselves contained in this system should address requests to the Commander, Air Force Junior Reserve Officer Training Corps, 551 East Maxwell Boulevard, Maxwell Air Force Base, AL 36112-6110.

Individuals who write must furnish name, grade, Social Security Number, unit of assignment and address.

Visitors must show armed forces identification card and some additional source of positive identification.

Contesting record procedures:

The Air Force rules for accessing records, and for contesting contents and appealing initial agency determinations are published in Air Force Instruction 37-132; 32 CFR part 806b; or may be obtained from the system manager.

Record source categories:

Information obtained from previous employers, financial institutions, educational institutions, police and investigating officers, the bureau of motor vehicles, a state or local government, witnesses and from source documents (such as reports) prepared on behalf of the Air Force by boards, committees, panels, auditors, and so forth.

Exemptions claimed for the system:

None.

F065 AF SVA B

System name:

Non-appropriated Fund (NAF) Insurance and Employee Benefit System File (June 11, 1997, 62 FR 31793).

Changes:

* * * * *

System name:

* * * * *

Change ‘File’ to ‘Files’.

* * * * *

Categories of individuals covered by the system:

Replace entry with ‘Non-appropriated Fund (NAF) participants of the Air Force NAF Group Insurance and Retirement Programs as well as any NAF civilian who has filed a claim with Air Force NAF Workers’ Compensation or Unemployment Compensation programs.’

* * * * *

Retention and disposal:

Replace ‘Life and Health’ with ‘Group’; after ‘20 years’ delete ‘upon’ and add ‘after’; after ‘erasing’ add ‘degaussing’.

* * * * *

F065 AF SVA B

System name:

Non-appropriated Fund (NAF) Insurance and Employee Benefit System Files.

System location:

Air Force installations; NAF Instrumentalities (NAFIs), local Human Resources Offices and the Air Force Services Agency (HQ AFSVA), 10100 Reunion Place, Suite 502, San Antonio TX 78216-4138. Official mailing addresses are published in the appendix to the Air Force's compilation of record systems notices.

Categories of individuals covered by the system:

NAF participants of the Air Force NAF Group Insurance and Retirement Programs as well as any NAF civilian who has filed a claim with Air Force NAF Workers' Compensation or Unemployment Compensation programs.

Categories of records in the system:

Group Life and Health Insurance Plan Files, Retirement and 401(k) Plan Files, Unemployment Compensation File, and Workers' Compensation Claim Files, all of which consist of, but are not limited to the following: applications and/or waivers of participation; notices of change of beneficiary; notices of termination of eligibility, disability and death; evidence of age and qualification for benefits; application for retirement; election to reinstate prior participation and survivor annuities; Social Security earnings data; employer certification of coverage; hospitalization and claims forms; report of accident or occupational illness; medical reports; payment forms; Unemployment Compensation claims; personal historical information, and other related correspondence.

Authority for maintenance of the system:

10 U.S.C. 8013, Secretary of the Air Force; 5 U.S.C. 8171-73 Non-appropriated Fund Employees, Compensation for Work Injuries; Air Force Instruction 34-301, Air Force Non-appropriated Fund Personnel Management and Administration; Air Force Instruction 34-302, Non-appropriated Fund Employee Retirement Plan; Air Force Instruction 34-305 Non-appropriated Fund Employee Group Health Plan; Air Force Instruction 34-306 Non-appropriated Fund Employee Group Life and Accidental Death and Dismemberment Plan; Air Force Instruction 34-307 Non-appropriated Fund Employee Flexible Benefits Plan; Air Force Instruction 34-308 Non-appropriated Fund Employee Worker's Compensation Program; Air Force Instruction 34-309 Non-appropriated Fund Employee Unemployment Compensation; Air Force Instruction 34-315 Non-appropriated Fund Employees' 401(k) Savings Plan; and E.O. 9397 (SSN).

Purpose(s):

Provides information for the administration of the programs to determine eligibility and compensation entitlements. It is used in statistical and actuarial evaluations of the program; and to insure compliance with applicable laws, determine benefits and adjudicate pay claims.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information in the system may be disclosed to commercial concerns in actuarial evaluations and determinations of eligibility, and amounts of benefit payments due.

May be disclosed to Federal, state, and local governmental agencies as required by law, and to the Department of Labor to ensure compliance with statutory requirements, in furtherance of the Air Force Program involved, and to insure benefits for proper recipients.

The DoD ‘Blanket Routine Uses’ published at the beginning of the Air Force's compilation of record system notices apply to this system.

Policies and practices for storing, retrieving, accessing, retaining, and disposing of records in the system:

Storage:

Maintained in file folders, microform, in computers and on computer output products.

Retrievability:

Retrieved by name or Social Security Number.

Safeguards:

Records are accessed by custodian of the record system, by person(s) responsible for servicing the record system in performance of their official duties, who are properly screened and cleared for need-to-know. Records are stored in locked file containers, cabinets, vaults or rooms, and in computerized data storage devices controlled by computer system software.

Retention and disposal:

At installation level, NAF Group Insurance Program and NAF Retirement Program records are retired to National Personnel Records Center, 111 Winnebago Street, St. Louis, MO 62225-2001, upon employee's separation, death, or retirement. At Headquarters Air Force level, NAF Retirement and Unemployment Compensation Programs records are retained for a minimum of 20 years after an employee's withdrawal from the program. At Headquarters Air Force level, NAF Workers' Compensation Program records are retained for 3 years after file is closed, retired to National Personnel Records Center for 15 additional years, and then destroyed. For all systems, eventual destruction is by burning, shredding, pulping, or macerating. Computer records are destroyed by erasing, degaussing, deleting or overwriting.

System manager(s) and address:

Chief, Benefits and Insurance Division, HQ Air Force Services Agency (HQ AFSVA/SVXBC), 10100 Reunion Place, Suite 502, San Antonio, TX 78216-4138.

Notification procedure:

Individuals seeking to determine whether this system of records contains information on them should address written inquiries to or visit the Benefits and Insurance Division, HQ Air Force Services Agency (HQ AFSVA/SVXBC), 10100 Reunion Place, Suite 502, San Antonio, TX 78216-4138 or to the local Human Resources Office at installation of employment of individual making request.

Give name and Social Security Number (and date of accident or injury if related to worker's compensation claim).

Record access procedures:

Individuals seeking to access records about themselves contained in this system should address written requests to or visit the Benefits and Insurance Division, Headquarters Air Force Services Agency (HQ AFSVA/SVXBC), 10100 Reunion Place, Suite 502, San Antonio, TX 78216-4138 or to the local Human Resources Office at installation of employment of individual making request.

Give name and Social Security Number (and date of accident or injury if related to worker's compensation claim). Government identification card, or vehicle driver's license is required for positive identification.

Contesting record procedures:

The Air Force rules for accessing records, and for contesting contents and appealing initial agency determinations are published in Air Force Instruction 37-132; 32 CFR part 806b; or may be obtained from the system manager.

Record source categories:

Information obtained from the individuals and their survivors and beneficiaries; Department of Labor; Social Security Administration; previous employers; medical institutions, and any individual in a position to verify relevant information.

Exemptions claimed for the system:

None.

F065 AF SVA C

System name:

Morale, Welfare, and Recreation (MWR) Participation/Membership/Training Records (June 11, 1997, 62 FR 31793).

Changes:

* * * * *

System name:

Replace entry with ‘Services Activities Participation/Membership/ Training Records.

* * * * *

Categories of individuals covered by the system:

Replace entry with ‘Active duty and retired military members and their dependents; members of Reserve components, DOD appropriated and non-appropriated civilian employees and their dependents; and certain other categories of individuals identified as authorized patrons of Service activities in accordance with Air Force regulations.’

Categories of records:

Replace ‘MWR’ with ‘Services’.

Authority For Maintenance of the System:

Replace entry with ‘10 U.S.C. 8013, Secretary of the Air Force; Air Force Instruction 34-121, Other Recreation Membership Clubs Programs; Air Force Instruction 34-217, Air Force Aero Club Program; and Air Force Instruction 34-272, Air Force Club Program; and E.O. 9397 (SSN).’

* * * * *

Storage:

Replace entry with ‘Maintained in paper and on computers and computer output products.’

Safeguards:

Replace entry with ‘Records are accessed by person(s) responsible for servicing the record system in performance of official duties and by authorized personnel who are properly screened and cleared for a need to know. Records are stored in locked rooms, cabinets, and in computer storage devices protected by computer system software.’

* * * * *

Record source categories:

Replace entry with ‘Individual applications and/or activity reports of membership/participation in Services activities and offices of primary responsibility for Services activities.’

* * * * *

F065 AF SVA C

System name:

Services Activities Participation/Membership/Training Records.

System location:

Air Force Services Agency, 10100 Reunion Place Suite 402, San Antonio, TX 78216-4138; Air Force installations; major commands; and individual activities. Official mailing addresses are published in the appendix to the Air Force’s compilation of record system notices.

Categories of individuals covered by the system:

Active duty and retired military members and their dependents; members of Reserve components, DOD appropriated and non-appropriated civilian employees and their dependents; and certain other categories of individuals identified as authorized patrons of Services activities in accordance with Air Force regulations.

Categories of records in the system:

Volunteer, membership, attendance, training, and participation/competition records and supporting data relative to Air Force Services activities.

Authority for maintenance of the system:

10 U.S.C. 8013, Secretary of the Air Force; Air Force Instruction 34-121, Other Recreation Membership Clubs Programs; Air Force Instruction 34-217, Air Force Aero Club Program; and Air Force Instruction 34-272, Air Force Club Program; and E.O. 9397 (SSN).

Purpose(s):

Determine membership/participation eligibility; maintain patron attendance; conduct contests; monitor training and currency of members; and serve as database for designing and conducting various recreation programs. Used by personnel responsible for conducting Air Force Services activities.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

May be provided to commercial or non-profit concerns conducting activities on behalf of, in support of or in conjunction with the Air Force Services programs involved.

Policies and practices for storing, retrieving, accessing, retaining, and disposing of records in the system:

Storage:

Maintained in paper and on computers and computer output products.

Retrievability:

Retrieved by name and/or Social Security Number.

Safeguards:

Records are accessed by person(s) responsible for servicing the record system in performance of official duties and by authorized personnel and limited to those requiring access in the performance of their duties, and who are properly screened and cleared for a need-to-know. Records are stored in locked rooms, cabinets, and in computer storage devices protected by computer system software.

Retention and disposal:

Retained in office files until superseded, obsolete, no longer needed for reference, or on inactivation, then destroyed by tearing into pieces, shredding, pulping, macerating, or burning, or surrender to member upon termination, as applicable. Computer records are destroyed by deleting files, erasing, degaussing, or overwriting using approved Air Force procedures and products.

System manager(s) and address:

Chief of Community Programs, Community Programs Division, HQ Air Force Services Agency (HQ AFSVA/SVP), 10100 Reunion Place, Suite 402, San Antonio, TX 78216-4138.

Notification procedure:

Individuals seeking to determine whether information about themselves is contained in this system should address written inquiries to or visit the Community Programs Division, Headquarters Air Force Services Agency (HQ AFSVA/SVPA), 10100 Reunion Place, Suite 402, San Antonio, TX 78216-4138 or Services activities at the appropriate Air Force installation. Official mailing addresses are published as an appendix to the Air Force's compilation of systems of records notices.

Individual should provide full name and Social Security Number.

Record access procedures:

Individuals seeking access to information about themselves contained in this system should address written inquiries to or visit the Community Programs Division, Headquarters Air Force Services Agency (HQ AFSVA/SVPA), 10100 Reunion Place, Suite 402, San Antonio TX 78216-4138 or Services activities at the appropriate Air Force installation. Official mailing addresses are published as an appendix to the Air Force's compilation of systems of records notices.

Individual should provide full name and Social Security Number.

Contesting record procedures:

The Air Force rules for accessing records, and for contesting contents and appealing initial agency determinations are published in Air Force Instruction 37-132; 32 CFR part 806b; or may be obtained from the system manager.

Record source categories:

Individual applications and/or activity reports of membership/participation in Services activities and offices of primary responsibility for Services activities.

Exemptions claimed for the system:

None.

[FR Doc. 03-11577 Filed 5-8-03; 8:45 am]

BILLING CODE 5001-08-P